DEPARTMENT OF ENERGY

Federal Energy Regulatory Commission

[Docket No. EG00-155-000, et al.]

PSEG Chorzow B.V., et al.; Electric Rate and Corporate Regulation Filings

May 31, 2000.

Take notice that the following filings have been made with the Commission:

1. PSEG Chorzow B.V.

[Docket No. EG00-155-000]

Take notice that on May 26, 2000, PSEG Chorzow B.V. (PSEG Chorzow) with its principal office at Weena 340, 3012 NJ Rotterdam, The Netherlands (mailing address: Postbus 21850, 3001 AW Rotterdam, The Netherlands), filed with the Federal Energy Regulatory Commission an application for determination of exempt wholesale generator status pursuant to Part 365 of the Commission's regulations.

PSEG Chorzow is a company organized under the laws of The Netherlands. PSEG Chorzow will be engaged, directly or indirectly through an affiliate as defined in Section 2(a)(11)(B) of the Public Utility Holding Company Act of 1935, exclusively in (i) owning, or both owning and operating, primarily during the construction of a new facility hereinafter described, an existing coal-fired, co-generation, electric generating facility consisting of an approximately 100 MWe and 490 MWt coal-fired electrical and thermal plant, located in Chorzow, Poland and (ii) owning, or both owning and operating a coal-fired electric and thermal generating facility, consisting of two electric generating units with a combined nominal capacity of approximately 226 MWe (net) and approximately 360 MWt (net) located in Chorzow, Poland; selling electric energy at wholesale and engaging in project development activities with respect thereto.

Comment date: June 21, 2000, in accordance with Standard Paragraph E at the end of this notice. The Commission will limit its consideration of comments to those that concern the adequacy or accuracy of the application.

2. Ameren Energy Generating Company

[Docket No. ES00-40-000]

Take notice that on May 25, 2000, Ameren Energy Generating Company (Generating Co.) submitted an application with the Commission seeking blanket authorization to issue securities or assume liabilities similar to those granted to other utility-affiliated generation-only companies. In the alternative, Generating Co. requests authorization to issue from time to time during the period from June 23, 2000, through June 22, 2002, (a) long-term debt in an amount not to exceed $1 billion, and (b) short-term debt with the aggregate amount outstanding at any time not to exceed $300 million.

Comment date: June 19, 2000, in accordance with Standard Paragraph E at the end of this notice.

3. Midwest Electric Power, Inc.

[Docket No. ES00-41-000]

Take notice that on May 25, 2000, Midwest Electric Power, Inc. (MEP) submitted an application pursuant to Section 204 of the Federal Power Act seeking authorization to issue from time to time during the period from June 19, 2000, through June 18, 2002, (a) long-term debt in an amount not to exceed $120 million and (b) short-term debt with the aggregate amount outstanding at any time not to exceed $70 million.

MEP also requests a waiver of the Commission's competitive bidding and negotiated placement requirements of 18 CFR 34.2 in order to obtain the requested funds from Electric Energy, Inc., its corporate parent.

Comment date: June 14, 2000, in accordance with Standard Paragraph E at the end of this notice.

4. American Electric Power Service Corporation

[Docket No. ER00-1727-001]

Take notice that on May 26, 2000, the American Electric Power Service Corporation (AEPSC), tendered for filing an amendment to the subject docket to include revised Specifications for the Long-Term Firm Point-to-Point Transmission Service to be attached as addenda to the previously filed Firm Point-to-Point Transmission Service Agreement Number 225, executed by American Municipal Power'Ohio, Inc. The agreement is pursuant to the AEP Companies' Open Access Transmission Service Tariff (OATT). The OATT has been designated as FERC Electric Tariff Original Volume No. 4, effective July 9, 1996.

AEPSC requests waiver of notice to permit the Service Agreements to be made effective for service on and after January 1, 2000.

A copy of the filing was served upon the affected Parties and state utility regulatory commissions of Indiana, Kentucky, Michigan, Ohio, Tennessee, Virginia and West Virginia.

Comment date: June 16, 2000, in accordance with Standard Paragraph E at the end of this notice.

5. Commonwealth Edison Company, Commonwealth Edison Company of Indiana

[Docket No. ER00-1820-001]

Take notice that on May 26, 2000, Commonwealth Edison Company and Commonwealth Edison Company of Indiana (collectively ComEd), tendered for filing tariff sheet changes in compliance with the Commission's order of April 26, 2000 in this proceeding.

Comment date: June 16, 2000, in accordance with Standard Paragraph E at the end of this notice.

6. Tampa Electric Company

[Docket No. ER00-2354-001]

Take notice that on May 26, 2000, Tampa Electric Company (Tampa Electric), amended its initial filing in this docket by withdrawing its request for acceptance of updated rates for short term power service under its interchange service contract with Alabama Power Company, Georgia Power Company, Gulf Power Company, Mississippi Power Company, Savannah Electric and Power Company, and Southern Company Services, Inc. (collectively, Southern Companies).

Tampa Electric continues to request that the updated rates for emergency assistance service under the contract with Southern Companies be accepted and made effective on May 1, 2000.

Copies of the filing have been served upon Southern Companies and the Florida Public Service Commission.

Comment date: June 16, 2000, in accordance with Standard Paragraph E at the end of this notice.

7. Florida Power Corporation

[Docket No. ER00-2567-000]

Take notice that on May 23, 2000, pursuant to Section 35.15, 18 CFR 35.15, of the Commission's regulations, Florida Power Corporation (Florida Power), tendered for filing notice of termination of the Contract for Interchange Service dated December 1, 1995, between Florida Power and El Paso Merchant Energy, L.P., Florida Power Rate Schedule FERC No. 166. El Paso Merchant Energy, L.P., requested that Florida Power file to terminate the agreement.

Florida Power has requested waiver of the Commission's 60-day prior notice requirement to permit the termination to be effective as March 25, 2000.

Comment date: June 13, 2000, in accordance with Standard Paragraph E at the end of this notice.

8. Florida Power Corporation

[Docket No. ER00-2568-000]

Take notice that on May 23, 2000, Florida Power Corporation (Florida Power), pursuant to 18 CFR 35.15, of the Commission's regulations, tendered for filing notice of termination of the Contract for Interchange Service dated March 11, 1996, between Florida Power and El Paso Merchant Energy, L.P., Florida Power Rate Schedule FERC No. 160. El Paso Merchant Energy, L.P., requested that Florida Power file to terminate the agreement.

Florida Power has requested waiver of the Commission's 60-day prior notice requirement to permit the termination to be effective as of March 25, 2000.

Comment date: June 13, 2000, in accordance with Standard Paragraph E at the end of this notice.

9. Lake Benton Power Partners, LLC

[Docket No. ER00-2596-000]

Take notice that on May 23, 2000, Lake Benton Power Partners, LLC (Lake Benton I), tendered for filing pursuant to 18 CFR 385.205, an application for an order accepting for filing, Amendment No. 1 to Lake Benton Power Partners, LLC, Rate Schedule FERC Supplement No. 1 to Zond Minnesota Development Corporation II Rate Schedule FERC No. 1, that reflects clarification agreed upon by Lake Benton Power Partners, LLC, and the purchaser, Northern States Power Company.

Lake Benton I requests that the Commission permit the Agreement to become effective on the date of filing of this application.

Comment date: June 13, 2000, in accordance with Standard Paragraph E at the end of this notice.

10. Lake Benton Power Partners II, L.L.C.

[Docket No. ER00-2597-000]

Take notice that on May 23, 2000, Lake Benton Power Partners II, L.L.C. (Lake Benton II), tendered for filing pursuant to 18 CFR § 385.205, an application for an order accepting for filing, Supplement Nos. 1 and 2 to Lake Benton Power Partners II, L.L.C., Rate Schedule FERC No. 1, that reflect clarifications agreed upon by Lake Benton Power II and the purchaser, Northern States Power Company.

Lake Benton II requests that the Commission permit the Agreement to become effective on the date of filing of this application.

Comment date: June 13, 2000, in accordance with Standard Paragraph E at the end of this notice.

11. American Electric Power Service Corporation

[Docket No. ER00-2598-000]

Take notice that on May 25, 2000, the American Electric Power Service Corporation (AEPSC), tendered for filing (1) blanket service agreements by the AEP Companies under the Wholesale Market Tariff of the AEP Operating Companies (Power Sales Tariff), (2) letters of assignment under the Power Sales Tariff and (3) two notices to terminate service agreements under the Power Sales Tariff. The Power Sales Tariff was accepted for filing effective October 10, 1997 and has been designated AEP Operating Companies' FERC Electric Tariff Original Volume No. 5. AEPSC respectfully requests waiver of notice to permit the service agreements, assignments and notices of termination to be made effective as specified in the submittal letter to the Commission with this filing.

A copy of the filing was served upon the Parties and the State Utility Regulatory Commissions of Indiana, Kentucky, Michigan, Ohio, Tennessee, Virginia and West Virginia.

Comment date: June 15, 2000, in accordance with Standard Paragraph E at the end of this notice.

12. Pacific Gas and Electric Company

[Docket No. ER00-2599-000]

Take notice that on May 25, 2000, Pacific Gas and Electric Company (PG&E), tendered for filing three agreements: an Interconnection Agreement between Pacific Gas and Electric Company and Lassen Municipal Utility District (Lassen); an Islanding Agreement between Lassen, HL Power Company and PG&E; and a Letter Agreement dated May 12, 2000, regarding Interconnection Capacity and Study Procedures. Lassen and PG&E entered into the Interconnection Agreement (IA) to provide for the continued interconnection of their electric systems. The IA provides the terms and conditions for such interconnection, and contains no rates or services. Lassen will have a Scheduling Coordinator and will use transmission services provided under separate agreements with the California Independent System Operator Corporation (ISO), upon which agreements the effective date of this IA is contingent. The Islanding Agreement provides the terms and conditions to facilitate Lassen's separation from PG&E's transmission system at the Lassen-PG&E interconnection point and the HL Power Plant's sole provision of Lassen's electric energy and capacity requirements during periods of outages of the interconnection point. The Letter Agreement waives certain study requirements in the IA during times when there is unused capacity on the interconnecting transmission line.

Copies of this filing have been served upon Lassen, HL Power Company, the ISO and the California Public Utilities Commission.

Comment date: June 15, 2000, in accordance with Standard Paragraph E at the end of this notice.

13. Central Illinois Light Company

[Docket No. ER00-2600-000]

Take notice that on May 25, 2000, Central Illinois Light Company (CILCO), 300 Liberty Street, Peoria, Illinois 61602, tendered for filing with the Commission a substitute Index of Point-To-Point Transmission Service Customers under its Open Access Transmission Tariff and service agreements for one new customer, Public Service Company of Colorado.

CILCO requested an effective date of May 16, 2000, for the service agreements.

Copies of the filing were served on the affected customers and the Illinois Commerce Commission.

Comment date: June 15, 2000, in accordance with Standard Paragraph E at the end of this notice.

14. Central Illinois Light Company

[Docket No. ER00-2601-000]

Take notice that on May 25, 2000, Central Illinois Light Company (CILCO), 300 Liberty Street, Peoria, Illinois 61202, tendered for filing with the Commission an Index of Customers under its Market Rate Power Sales Tariff and one service agreement with one new customer, Dynegy Power Marketing, Inc.

CILCO requested an effective date of May 22, 2000.

Copies of the filing were served on the affected customer and the Illinois Commerce Commission.

Comment date: June 15, 2000, in accordance with Standard Paragraph E at the end of this notice.

15. Duke Energy Corporation

[Docket No. ER00-2602-000]

Take notice that on May 25, 2000, Duke Energy Corporation (Duke), tendered for filing a Service Agreement with Carolina Power and Light Company for Transmission Service under Duke's Open Access Transmission Tariff.

Duke requests that the proposed Service Agreement be permitted to become effective on May 15, 2000.

Duke states that this filing is in accordance with part 35 of the Commission's Regulations and a copy has been served on the North Carolina Utilities Commission.

Comment date: June 15, 2000, in accordance with Standard Paragraph E at the end of this notice.

16. Trigen-Syracuse Energy Corporation

[Docket No. ER00-2603-000]

Take notice that on May 25, 2000, Trigen-Syracuse Energy Corporation (Trigen-Syracuse), tendered for filing an application with the Federal Energy Regulatory Commission (Commission) requesting acceptance of Trigen-Syracuse FERC Electric Rate Schedule Nos. 1 and 2; the granting of certain blanket approvals, including the authority to sell electricity at market-based rates; and the waiver of certain Commission Regulations.

Trigen-Syracuse is seeking blanket approval to sell electric energy and capacity at market-based rates from a cogeneration facility located in Syracuse, New York (the Facility), to Sempra Energy Trading Corp. under Trigen-Syracuse FERC Electric Rate Schedule No. 1. Trigen-Syracuse also requests that the Commission accept Trigen-Syracuse FERC Electric Rate Schedule No. 2 so that Trigen-Syracuse may make sales of energy and capacity from the Facility other than pursuant to Trigen-Syracuse FERC Electric Rate Schedule No. 1 at market-based rates should the opportunity arise.

Comment date: June 15, 2000, in accordance with Standard Paragraph E at the end of this notice.

17. Virginia Electric and Power Company

[Docket No. ER00-2604-000]

Take notice that on May 25, 2000, Virginia Electric and Power Company tendered for filing a Control Area Service Agreement with Aquila Energy Marketing Corporation. The agreement is proposed to be effective as on June 1, 2000.

The filing has been served on Aquila, the Virginia State Corporation Commission and the North Carolina Utilities Commission.

Comment date: June 15, 2000, in accordance with Standard Paragraph E at the end of this notice.

18. Central Vermont Public Service Corporation

[Docket No. ER00-2605-000]

Take notice that on May 25, 2000, Central Vermont Public Service Corporation (Central Vermont), tendered for filing a Service Agreement with Sempra Energy Trading Corp., under its FERC Electric Tariff No. 8.

Central Vermont requests waiver of the Commission's regulations to permit the service agreement to become effective on April 28, 2000.

Comment date: June 15, 2000, in accordance with Standard Paragraph E at the end of this notice.

19. Niagara Mohawk Power Corporation

[Docket No. ER00-2606-000]

Take notice that on May 25, 2000, Niagara Mohawk Power Corporation tendered for filing an Interconnection Agreement between Niagara Mohawk Power Corporation and NEPA Energy LP, dated as of May 10, 2000.

Niagara Mohawk Power Corporation requests an Interconnection Agreement effective date of May 10, 2000. To the extent necessary, Niagara Mohawk requests waiver of the Commission requirement that a rate schedule be filed not less than 60 days or more than 120 days from its effective date.

Comment date: June 15, 2000, in accordance with Standard Paragraph E at the end of this notice.

20. Louisville Gas and Electric Company/Kentucky Utilities Company

[Docket No. ER00-2607-000]

Take notice that on May 25, 2000, Louisville Gas and Electric Company (LG&E)/Kentucky Utilities (KU) (hereinafter Companies), tendered for filing executed unilateral transmission service agreement with Public Service of Colorado. This agreement allows Public Service of Colorado to take firm point-to-point transmission service from LG&E/KU.

Comment date: June 15, 2000, in accordance with Standard Paragraph E at the end of this notice.

21. Louisville Gas and Electric Company/Kentucky Utilities Company

[Docket No. ER00-2608-000]

Take notice that on May 25, 2000, Louisville Gas and Electric Company (LG&E)/Kentucky Utilities (KU) (hereinafter Companies), tendered for filing executed unilateral transmission service agreement with Public Service of Colorado. This agreement allows Public Service of Colorado to take non-firm point-to-point transmission service from LG&E/KU.

Comment date: June 15, 2000, in accordance with Standard Paragraph E at the end of this notice.

22. Alliant Energy Corporate Services, Inc.

[Docket No. ER00-2609-000]

Take notice that on May 25, 2000, Alliant Energy Corporate Services, Inc., tendered for filing executed Service Agreements for short-term firm point-to-point transmission service and non-firm point-to-point transmission service, establishing Amerada Hess Corporation as a point-to-point Transmission Customer under the terms of the Alliant Energy Corporate Services, Inc., transmission tariff.

Alliant Energy Corporate Services, Inc. requests an effective date of May 8, 2000, and accordingly, seeks waiver of the Commission's notice requirements.

A copy of this filing has been served upon the Illinois Commerce Commission, the Minnesota Public Utilities Commission, the Iowa Department of Commerce, and the Public Service Commission of Wisconsin.

Comment date: June 15, 2000, in accordance with Standard Paragraph E at the end of this notice.

23. Potomac Electric Power Company

[Docket No. ER00-2610-000]

Take notice that on May 25, 2000, Potomac Electric Power Company (Pepco), tendered for filing a service agreement pursuant to Pepco FERC Electric Tariff, Original Volume No. 5, entered into between Pepco and Tenaska Power Services Co.

An effective date of May 22, 2000 for this service agreement, with waiver of notice, is requested.

Comment date: June 15, 2000, in accordance with Standard Paragraph E at the end of this notice.

24. Carolina Power & Light Company

[Docket No. ER00-2611-000]

Take notice that on May 26, 2000, Carolina Power & Light Company (CP&L), tendered for filing a Service Agreement for Firm Point-to-Point Transmission Service with Carolina Power & Light Company—Wholesale Power Department. Service to this Eligible Customer will be in accordance with the terms and conditions of Carolina Power & Light Company's Open Access Transmission Tariff.

CP&L is requesting an effective date of October 1, 2000, for this Agreement.

Copies of the filing were served upon the North Carolina Utilities Commission and the South Carolina Public Service Commission.

Comment date: June 16, 2000, in accordance with Standard Paragraph E at the end of this notice.

25. Carolina Power & Light Company

[Docket No. ER00-2612-000]

Take notice that on May 26, 2000, Carolina Power & Light Company (CP&L), tendered for filing an executed Service Agreement between CP&L and Amerada Hess Corporation. Service to this eligible buyer will be in accordance with the terms and conditions of CP&L's Market-Based Rates Tariff, FERC Electric Tariff No. 4, for sales of capacity and energy at market-based rates.

CP&L requests an effective date of May 17, 2000, for this Service Agreement.

Copies of the filing were served upon the North Carolina Utilities Commission and the South Carolina Public Service Commission.

Comment date: June 16, 2000, in accordance with Standard Paragraph E at the end of this notice.

26. Carolina Power & Light Company

[Docket No. ER00-2613-000]

Take notice that on May 26, 2000, Carolina Power & Light Company (CP&L), tendered for filing a Service Agreement and Operating Agreement for Network Integration Transmission Service executed between CP&L and City of Camden, South Carolina. Service to this Eligible Customer will be in accordance with the terms and conditions of Carolina Power & Light Company's Open Access Transmission Tariff.

CP&L is requesting an effective date of July 1, 2000, for this Service Agreement.

Copies of the filing were served upon the North Carolina Utilities Commission and the South Carolina Public Service Commission.

Comment date: June 16, 2000, in accordance with Standard Paragraph E at the end of this notice.

27. Allegheny Energy Service Corporation, on behalf of Monongahela Power Company, The Potomac Edison Company, and West Penn Power Company (Allegheny Power)

[Docket No. ER00-2614-000]

Take notice that on May 26, 2000, Allegheny Energy Service Corporation on behalf of Monongahela Power Company, The Potomac Edison Company and West Penn Power Company (Allegheny Power), tendered for filing Supplement No. 80 to add The Legacy Energy Group, LLC to Allegheny Power's Open Access Transmission Service Tariff which has been accepted for filing by the Federal Energy Regulatory Commission in Docket No. ER96-58-000.

The proposed effective date under the Service Agreements is May 25, 2000 or a date ordered by the Commission.

Copies of the filing have been provided to the Public Utilities Commission of Ohio, the Pennsylvania Public Utility Commission, the Maryland Public Service Commission, the Virginia State Corporation Commission, and the West Virginia Public Service Commission.

Comment date: June 16, 2000, in accordance with Standard Paragraph E at the end of this notice.

28. Allegheny Energy Service Corporation, on behalf of Monongahela Power Company, The Potomac Edison Company, and West Penn Power Company (Allegheny Power)

[Docket No. ER00-2615-000]

Take notice that on May 26, 2000, Allegheny Energy Service Corporation on behalf of Monongahela Power Company, The Potomac Edison Company and West Penn Power Company (Allegheny Power), tendered for filing Supplement No. 81 to add Pepco Energy Services to Allegheny Power's Open Access Transmission Service Tariff which has been accepted for filing by the Federal Energy Regulatory Commission in Docket No. ER96-58-000.

The proposed effective date under the Service Agreements is May 25, 2000 or a date ordered by the Commission.

Copies of the filing have been provided to the Public Utilities Commission of Ohio, the Pennsylvania Public Utility Commission, the Maryland Public Service Commission, the Virginia State Corporation Commission, and the West Virginia Public Service Commission.

Comment date: June 16, 2000, in accordance with Standard Paragraph E at the end of this notice.

29. Florida Power & Light Company

[Docket No. ER00-2616-000]

Take notice that on May 26, 2000, Florida Power & Light Company (FPL), tendered for filing Service Agreements with Cinergy Services, Inc., as Agent for and on Behalf of The Cincinnati Gas & Electric Company and PSI Energy, Inc., and Louisville Gas & Electric Company/Kentucky Utilities for service pursuant to FPL's Market Based Rates Tariff.

FPL requests that the Service Agreements be made effective on May 1, 2000.

Comment date: June 16, 2000, in accordance with Standard Paragraph E at the end of this notice.

30. New Century Services, Inc.

[Docket No. ER00-2617-000]

Take notice that on May 26, 2000, New Century Services, Inc. on behalf of Cheyenne Light, Fuel and Power Company, Public Service Company of Colorado, and Southwestern Public Service Company (collectively Companies), tendered for filing a Service Agreement under their Joint Open Access Transmission Service Tariff for Firm Point-to-Point Transmission Service between the Companies and Tri-State Generation and Transmission Association, Inc.

Comment date: June 16, 2000, in accordance with Standard Paragraph E at the end of this notice.

31. Tampa Electric Company

[Docket No. ER00-2618-000]

Take notice that on May 26, 2000, Tampa Electric Company (Tampa Electric), tendered for filing an amendment to the interchange service contract between Tampa Electric and Alabama Power Company, Georgia Power Company, Gulf Power Company, Mississippi Power Company, Savannah Electric and Power Company, and Southern Company Services, Inc. (collectively, Southern Companies) that deletes Service Schedules B and C from the contract. Tampa Electric also submitted a notice of cancellation of Service Schedules B and C and the rates under Service Schedule B.

Tampa Electric proposes that the amendment and cancellations be made effective on April 26, 2000, and therefore requests waiver of the Commission's notice requirements.

Copies of the filing have been served on Southern Companies and the Florida Public Service Commission.

Comment date: June 16, 2000, in accordance with Standard Paragraph E at the end of this notice.

32. Wisconsin Public Service Corporation

[Docket No. ER00-2619-000]

Take notice that on May 26, 2000, on behalf of WPS Resources Operating Companies (WPSR), Wisconsin Public Service Corporation (WPSC), tendered for filing Supplement No. 3 to its partial requirements service agreement with Upper Peninsula Power Company (UPPCO). Supplement No. 3 provides UPPCO's contract demand nominations for January 2001—December 2001, under WPSC's W-2A partial requirements tariff and UPPCO's applicable service agreement.

The company states that copies of this filing have been served upon UPPCO and to the State Commissions where WPSC serves at retail.

Comment date: June 16, 2000, in accordance with Standard Paragraph E at the end of this notice.

33. Tucson Electric Power Company

[Docket No. ER00-2620-000]

Take notice that on May 26, 2000, Tucson Electric Power Company tendered for filing one (1) umbrella service agreement (for short-term firm service) and one (1) service agreement (for non-firm service) pursuant to Part II of Tucson's Open Access Transmission Tariff, which was filed in Docket No. OA96-140-000.

The details of the service agreements are as follows:

(1) Umbrella Agreement for Short-Term Firm Point-to-Point Transmission Service dated as of May 15, 2000 by and between Tucson Electric Power Company and PPL Montana, LLC. No service has commenced at this time.

(2) Non-Firm Service Agreement dated as of May 15, 2000 by and between Tucson Electric Power Company and PPL Montana, LLC. No service has commenced at this time.

Comment date: June 16, 2000, in accordance with Standard Paragraph E at the end of this notice.

34. Entergy Services, Inc.

[Docket No. ER00-2621-000]

Take notice that on May 26, 2000, Entergy Services, Inc., on behalf of Entergy Louisiana, Inc., tendered for filing an Interconnection and Operating Agreement with Occidental Chemical Corporation (Occidental), and a Generator Imbalance Agreement with Occidental.

Comment date: May 5, 2000, in accordance with Standard Paragraph E at the end of this notice.

35. International Transmission Company

[Docket No. ER00-2622-000]

Take notice that on May 26, 2000, International Transmission Company tendered for filing its open access transmission tariff, Original Volume 1, pursuant to Section 205 of the Federal Power Act, 16 U.S.C. 824d (1994).

Comment date: June 16, 2000, in accordance with Standard Paragraph E at the end of this notice.

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-14387 Filed 6-7-00; 8:45 am]

BILLING CODE 6717-01-P